ENVIRONMENTAL PROTECTION AGENCY

40 CFR Part 180

[OPP-301142; FRL-6787-8]

RIN 2070-AB78

Diazinon, Parathion, O,O-Diethyl S-[2-(ethylthio)ethyl] phosphorodithioate (Disulfoton), Ethoprop, and Carbaryl; Tolerance Revocations

AGENCY: Environmental Protection Agency (EPA).

ACTION: Final rule.

SUMMARY: This final rule revokes specific tolerances listed in the regulatory text for the insecticides diazinon, parathion, O,O-Diethyl S-[2-(ethylthio)ethyl] phosphorodithioate (disulfoton), ethoprop, and carbaryl. The regulatory actions in this rule are part of the Agency's reregistration program under the Federal Insecticide, Fungicide, and Rodenticide Act (FIFRA), and the tolerance reassessment requirements of the Federal Food, Drug, and Cosmetic Act (FFDCA). By law, EPA is required to reassess 66% of the tolerances in existence on August 2, 1996, by August 2002, or about 6,400 tolerances. This document counts 24 tolerance reassessments made toward the August 2002 review deadline of FFDCA section 408(q), as amended by the Food Quality Protection Act (FQPA) of 1996.

DATES: This regulation is effective October 24, 2001. Objections and requests for hearings, identified by docket control number OPP-301142, must be received by EPA on or before September 24, 2001.

ADDRESSES: Written objections and hearing requests may be submitted by mail, in person, or by courier. Please follow the detailed instructions for each method as provided in Unit IV. of the SUPPLEMENTARY INFORMATION. To ensure proper receipt by EPA, your objections and hearing requests must identify docket control number OPP-301142 in the subject line on the first page of your response.

FOR FURTHER INFORMATION CONTACT: By mail: Joseph Nevola, Special Review and Reregistration Division (7508C), Office of Pesticide Programs, Environmental Protection Agency, 1200 Pennsylvania Ave., NW., Washington, DC 20460; telephone number: (703) 308-8037; and e-mail address: nevola.joseph@epa.gov.

SUPPLEMENTARY INFORMATION:

I. General Information

A. Does this Action Apply to Me?

You may be affected by this action if you are an agricultural producer, food manufacturer, or pesticide manufacturer. Potentially affected categories and entities may include, but are not limited to:

Categories | NAICS codes | Examples of potentially affected entities
Industry | 111 | Crop production
| 112 | Animal production
| 311 | Food manufacturing
| 32532 | Pesticide manufacturing

This listing is not intended to be exhaustive, but rather provides a guide for readers regarding entities likely to be affected by this action. Other types of entities not listed in the table could also be affected. The North American Industrial Classification System (NAICS) codes have been provided to assist you and others in determining whether or not this action might apply to certain entities. If you have questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

2. In person. The Agency has established an official record for this action under docket control number OPP-301142. The official record consists of the documents specifically referenced in this action, and other information related to this action, including any information claimed as Confidential Business Information (CBI). This official record includes the documents that are physically located in the docket, as well as the documents that are referenced in those documents. The public version of the official record does not include any information claimed as CBI. The public version of the official record, which includes printed, paper versions of any electronic comments submitted during an applicable comment period is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

II. Background

A. What Action is the Agency Taking?

This final rule revokes the FFDCA tolerances for residues of the insecticides diazinon, parathion, O,O-Diethyl S-[2-(ethylthio)ethyl] phosphorodithioate (disulfoton), ethoprop, and carbaryl in or on certain specified commodities. EPA is revoking these tolerances because they are not necessary to cover residues of the relevant pesticides in or on domestically treated commodities or commodities treated outside but imported into the United States. These pesticides are no longer used on those specified commodities within the United States and no person has provided comment identifying a need for EPA to retain the tolerances to cover residues in or on imported foods. EPA has historically expressed a concern that retention of tolerances that are not necessary to cover residues in or on legally treated foods has the potential to encourage misuse of pesticides within the United States. Thus, it is EPA's policy to issue a final rule revoking those tolerances for residues of pesticide chemicals for which there are no active registrations under FIFRA, unless any person commenting on the proposal demonstrates a need for the tolerance to cover residues in or on imported commodities or domestic commodities legally treated.

EPA is not issuing today a final rule to revoke those tolerances for which EPA received comments stating a need for the tolerance to be retained. Generally, EPA will proceed with the revocation of these tolerances on the grounds discussed above, if prior to EPA's issuance of a section 408(f) order requesting additional data or issuance of a section 408(d) or (e) order revoking the tolerances on other grounds, commenters retract the comment identifying a need for the tolerance to be retained, EPA independently verifies that the tolerance is no longer needed, or the tolerance is not supported by data that demonstrate that the tolerance meets the requirements under FQPA.

In the Federal Register of May 24, 1999 (64 FR 27947) (FRL-6083-1), EPA issued a proposed rule to revoke the tolerances listed in this final rule. For tolerance reassessment counting purposes, the number of tolerance revocations stated in the proposed rule of May 24, 1999 and listed in this final rule has been revised by EPA from 29 to 24, to account for maintaining one tolerance for residues of diazinon in/on olives for import purposes and to account for removing 4 berry tolerances (boysenberries and dewberries for diazinon; boysenberries and youngberries for parathion) which are now covered by an existing blackberry tolerance. EPA does not consider the removal of these 4 berry tolerances to be tolerance reassessments because the pesticide residue is still allowed on the commodity. Since diazinon and parathion tolerances not revoked will be part of the organophosphate cumulative risk assessment, these 4 tolerance removals are not yet countable as tolerance reassessments. There are 24 tolerance reassessments counted in this final rule. Also, the May 24, 1999 proposal invited public comment for consideration and for support of tolerance retention under FFDCA standards.

In response to the document published in the Federal Register of May 24, 1999, no comments were received by the Agency concerning the pesticides mentioned in this final rule, with the exception of diazinon. Concerning diazinon, the following comment was received:

1. Diazinon—comment from Novartis. A comment was received by the Agency from Novartis. Novartis wished to clarify that based on an August 2, 1993, agreement with EPA, diazinon products released for shipment by the registrant after August 31, 1995 could not include the uses listed in this document; and diazinon products sold or distributed after August 31, 1996 could not bear labeling with those uses. In addition, Novartis pointed out that rice was inaccurately listed as a commodity on which diazinon is used. Novartis also noted that in §180.153 of the May 24, 1999 proposed rule, page 27951, “pineapples” was inadvertently listed instead of “pineapples, forage.”

Agency response. The Agency acknowledges that in response to EPA's Data Call-In for Diazinon in 1987 and the 1988 Registration Standard, Novartis (then Ciba-Geigy) notified EPA that they did not intend to support the continued registration of diazinon on the uses listed in this document; and it was agreed that diazinon products sold or distributed after August 31, 1996 could not bear labeling with these unsupported uses. On December 27, 1996, a Federal Register notice (61 FR 68260) (FRL-5577-9) was issued announcing receipt of a request for voluntary deletion of these uses.

In the Federal Register on May 24, 1999, in section 180.153, “pineapples” was inadvertently listed in the codification text on page 27951 instead of “pineapples, forage”. However, “pineapples, forage” was correctly listed in the preamble on page 27949 as the tolerance proposed for revocation. The tolerance for “pineapples” is not revoked; it is still in effect, but the tolerance for “pineapples, forage” is revoked because it is no longer considered a significant feed item. In the proposed rule, rice was inadvertently listed as a commodity on which diazinon is used. In reference to the use of diazinon on rice, diazinon in fact does not have registered uses on rice within the United States nor does rice have a tolerance for diazinon.

EPA had proposed to revoke the tolerance for “olives” in 40 CFR 180.153 on May 24, 1999, however, because Makhteshim Agan of North America, Incorporated is interested in maintaining the “olives” tolerance for import purposes, the Agency will not revoke the tolerance for “olives” at this time. Instead, EPA will follow-up on this matter with Makhteshim Agan of North America, Incorporated.

EPA is revoking the tolerances in 40 CFR 180.153(a)(1) for residues of diazinon in or on birdsfoot trefoil; birdsfoot trefoil, hay; grass (NMT 40 ppm shall remain 24 hours after appli); grass, hay; peanuts; peanuts, forage; peanuts, hay; pecans; soybeans; and soybeans, forage; since these uses were voluntarily canceled (61 FR 68260, December 27, 1996). In the rule of May 24, 1999, EPA had proposed an effective date of expiration/revocation for these tolerances as January 1, 2000, but that date has since passed (64 FR 27947). EPA believes that existing stocks have been exhausted and that there has been enough time for all treated commodities to have passed through the channels of trade.

EPA is revoking the tolerances in 40 CFR 180.153(a)(1) for diazinon residues in or on beans, forage; beans, hay; beans, guar, forage; and pineapples, forage; since these commodities are no longer considered significant animal feed items and therefore no longer need tolerances. For general guidance on tolerances for commodities that are no longer considered significant feed items refer to the Federal Register December 17, 1997 (62 FR 66020) (FRL-5753-1).

When EPA proposed to revoke the tolerance in 40 CFR 180.153(a)(1) for diazinon residues in or on sugarcane on May 24, 1999 (64 FR 27947), the Agency inadvertently missed an existing FIFRA section 24(c) registration in Louisiana. That FIFRA section 24(c) registration has since been canceled on May 2, 2000 and there continues to be no need for the tolerance. Therefore, EPA is revoking the tolerance in 40 CFR 180.153(a)(1) for sugarcane. Because there have been no active registrations since May 2, 2000, EPA believes that existing stocks have been exhausted.

Also, EPA is removing the tolerances in 40 CFR 180.153(a)(1) for diazinon residues in or on boysenberries and dewberries (0.5 ppm each), since these commodities are now covered by the tolerance for blackberries (also set at 0.5 ppm).

No comments were received by the Agency concerning the following.

2. Parathion. Methyl parathion is the methyl homolog of ethyl parathion; ethyl parathion is called parathion in the tolerance listings in 40 CFR 180.121. Tolerances for methyl parathion residues on most crops are included in the (ethyl) parathion tolerances because the enforcement analytical method does not distinguish between the two chemical species. EPA is removing the tolerances in 40 CFR 180.121 for parathion or its methyl homolog residues in or on boysenberries and youngberries (both set at 1 ppm), since these commodities are now covered by the tolerance for blackberries (also set at 1 ppm).

3. O,O-Diethyl S-[2-(ethylthio)ethyl] phosphorodithioate (Disulfoton). EPA is revoking the tolerance in 40 CFR 180.183(a)(1) for residues of disulfoton and its cholinesterase-inhibiting metabolites in or on pineapples, foliage because this commodity is no longer considered a significant animal feed item and therefore no longer needs a tolerance.

4. Ethoprop. EPA is revoking the tolerances in 40 CFR 180.262 for residues of ethoprop in or on beans, lima, forage; beans, snap, forage; pineapples, fodder; pineapples, forage; sugarcane, fodder; and sugarcane, forage. These commodities are no longer considered significant animal feed items and therefore no longer need tolerances. In 40 CFR 180.262, EPA is also removing the “(N)” designation from all entries to conform to current Agency administrative practice (“N” designation means negligible residues).

5. Carbaryl. EPA is revoking the tolerances in 180.169(a)(1) for residues of carbaryl including its hydrolysis product 1-naphthol in or on maple sap and in 40 CFR 180.169(c) for residues of carbaryl in or on avocados. EPA had received a request from the registrant who volunteered to delete those uses from registrations and the Agency agreed to approve the deletions to become effective on December 8, 1997 and authorized the registrant to sell or distribute product under the previously approved labeling for 18 months (62 FR 31816, June 11, 1997) (FRL-5721-2). EPA believes that there are no active registrations for these uses, that all existing stocks are exhausted, and that all treated commodities have passed through the channels of trade. Sections 180.169(a)(1) and 180.169(c) had been redesignated from sections 180.169(a) and 180.169(e), respectively on May 24, 2000 (65 FR 33691) (FRL-6043-1).

B. What is the Agency's Authority for Taking this Action?

It is EPA's general practice to propose revocation of tolerances for residues of pesticide active ingredients on crop uses for which FIFRA registrations no longer exist. EPA has historically been concerned that retention of tolerances that are not necessary to cover residues in or on legally treated foods may encourage misuse of pesticides within the United States. Nonetheless, EPA will establish and maintain tolerances even when corresponding domestic uses are canceled if the tolerances, which EPA refers to as “import tolerances,” are necessary to allow importation into the United States of food containing such pesticide residues. However, where there are no imported commodities that require these import tolerances, the Agency believes it is appropriate to revoke tolerances for unregistered pesticides in order to prevent potential misuse.

C. When Do These Actions Become Effective?

These actions become effective 90 days following publication of this final rule in the Federal Register. EPA has delayed the effectiveness of these revocations for 90 days following publication of the final rule to ensure that all affected parties receive notice of EPA's actions. Consequently, the effective date is October 24, 2001. For this particular final rule, the actions will affect uses which have been canceled for more than a year. Therefore, commodities should have cleared the channels of trade.

Any commodities listed in the regulatory text of this document that are treated with the pesticides subject to this final rule, and that are in the channels of trade following the tolerance revocations, shall be subject to FFDCA section 408(1)(5), as established by the FQPA. Under this section, any residue of these pesticides in or on such food shall not render the food adulterated so long as it is shown to the satisfaction of FDA that the residue is present as the result of an application or use of the pesticide at a time and in a manner that was lawful under FIFRA, and the residue does not exceed the level that was authorized at the time of the application or use to be present on the food under a tolerance or exemption from a tolerance. Evidence to show that food was lawfully treated may include records that verify the dates that the pesticide was applied to such food.

D. What is the Contribution to Tolerance Reassessment?

By law, EPA is required to reassess 66% or about 6,400 of the tolerances in existence on August 2, 1996, by August 2002. EPA is also required to assess the remaining tolerances by August 2006. As of May 29, 2001, EPA has reassessed over 3,630 tolerances. In this document, EPA is removing four tolerances and revoking 24 tolerances. Those 24 tolerance revocations are reassessments that are counted toward the August 2002 review deadline of FFDCA section 408(q), as amended by FQPA in 1996.

III. Are There Any International Trade Issues Raised by this Final Action?

EPA is working to ensure that the U.S. tolerance reassessment program under FQPA does not disrupt international trade. EPA considers Codex Maximum Residue Limits (MRLs) in setting U.S. tolerances and in reassessing them. MRLs are established by the Codex Committee on Pesticide Residues, a committee within the Codex Alimentarius Commission, an international organization formed to promote the coordination of international food standards. When possible, EPA seeks to harmonize U.S. tolerances with Codex MRLs. EPA may establish a tolerance that is different from a Codex MRL; however, FFDCA section 408(b)(4) requires that EPA explain in a Federal Register document the reasons for departing from the Codex level. EPA's effort to harmonize with Codex MRLs is summarized in the tolerance reassessment section of individual REDs. The U.S. EPA has developed guidance concerning submissions for import tolerance support (65 FR 35069, June 1, 2000) (FRL-6559-3). This guidance will be made available to interested persons. Electronic copies are available on the internet at http://www.epa.gov/. On the Home Page select “Laws and Regulations,” then select “Regulations and Proposed Rules” and then look up the entry for this document under “Federal Register — Environmental Documents.” You can also go directly to the “Federal Register” listings at http://www.epa.gov/fedrgstr/.]

IV. Objections and Hearing Requests

Under section 408(g) of the FFDCA, as amended by the FQPA, any person may file an objection to any aspect of this regulation and may also request a hearing on those objections. The EPA procedural regulations which govern the submission of objections and requests for hearings appear in 40 CFR part 178. Although the procedures in those regulations require some modification to reflect the amendments made to the FFDCA by the FQPA of 1996, EPA will continue to use those procedures, with appropriate adjustments, until the necessary modifications can be made. The new section 408(g) provides essentially the same process for persons to “object” to a regulation for an exemption from the requirement of a tolerance issued by EPA under new section 408(d), as was provided in the old FFDCA sections 408 and 409. However, the period for filing objections is now 60 days, rather than 30 days.

A. What Do I Need to Do to File an Objection or Request a Hearing?

You must file your objection or request a hearing on this regulation in accordance with the instructions provided in this unit and in 40 CFR part 178. To ensure proper receipt by EPA, you must identify docket control number OPP-301142 in the subject line on the first page of your submission. All requests must be in writing, and must be mailed or delivered to the Hearing Clerk on or before September 24, 2001.

1. Filing the request. Your objection must specify the specific provisions in the regulation that you object to, and the grounds for the objections (40 CFR 178.25). If a hearing is requested, the objections must include a statement of the factual issues(s) on which a hearing is requested, the requestor's contentions on such issues, and a summary of any evidence relied upon by the objector (40 CFR 178.27). Information submitted in connection with an objection or hearing request may be claimed confidential by marking any part or all of that information as CBI. Information so marked will not be disclosed except in accordance with procedures set forth in 40 CFR part 2. A copy of the information that does not contain CBI must be submitted for inclusion in the public record. Information not marked confidential may be disclosed publicly by EPA without prior notice.

Mail your written request to: Office of the Hearing Clerk (1900), Environmental Protection Agency, 1200 Pennsylvania Ave., NW., Washington, DC 20460. You may also deliver your request to the Office of the Hearing Clerk in Rm. C400, Waterside Mall, 401 M St., SW., Washington, DC 20460. The Office of the Hearing Clerk is open from 8 a.m. to 4 p.m., Monday through Friday, excluding legal holidays. The telephone number for the Office of the Hearing Clerk is (202) 260-4865.

2. Objection/hearing fee payment. If you file an objection or request a hearing, you must also pay the fee prescribed by 40 CFR 180.33(i) or request a waiver of that fee pursuant to 40 CFR 180.33(m). You must mail the fee to: EPA Headquarters Accounting Operations Branch, Office of Pesticide Programs, P.O. Box 360277M, Pittsburgh, PA 15251. Please identify the fee submission by labeling it “Tolerance Petition Fees.”

EPA is authorized to waive any fee requirement “when in the judgement of the Administrator such a waiver or refund is equitable and not contrary to the purpose of this subsection.” For additional information regarding the waiver of these fees, you may contact James Tompkins by phone at (703) 305-5697, by e-mail at tompkins.jim@epa.gov, or by mailing a request for information to Mr. Tompkins at Registration Division (7505C), Office of Pesticide Programs, Environmental Protection Agency, 1200 Pennsylvania Ave., NW., Washington, DC 20460.

If you would like to request a waiver of the tolerance objection fees, you must mail your request for such a waiver to: James Hollins, Information Resources and Services Division (7502C), Office of Pesticide Programs, Environmental Protection Agency, 1200 Pennsylvania Ave., NW., Washington, DC 20460.

3. Copies for the Docket. In addition to filing an objection or hearing request with the Hearing Clerk as described in Unit VI.A., you should also send a copy of your request to the PIRIB for its inclusion in the official record that is described in Unit I.B.2. Mail your copies, identified by docket control number OPP-301142, to: Public Information and Records Integrity Branch, Information Resources and Services Division (7502C), Office of Pesticide Programs, Environmental Protection Agency, 1200 Pennsylvania Ave., NW., Washington, DC 20460. In person or by courier, bring a copy to the location of the PIRIB described in Unit I.B.2. You may also send an electronic copy of your request via e-mail to: opp-docket@epa.gov. Please use an ASCII file format and avoid the use of special characters and any form of encryption. Copies of electronic objections and hearing requests will also be accepted on disks in WordPerfect 6.1/8.0 or ASCII file format. Do not include any CBI in your electronic copy. You may also submit an electronic copy of your request at many Federal Depository Libraries.

B. When Will the Agency Grant a Request for a Hearing?

A request for a hearing will be granted if the Administrator determines that the material submitted shows the following: There is a genuine and substantial issue of fact; there is a reasonable possibility that available evidence identified by the requestor would, if established resolve one or more of such issues in favor of the requestor, taking into account uncontested claims or facts to the contrary; and resolution of the factual issues(s) in the manner sought by the requestor would be adequate to justify the action requested (40 CFR 178.32).

V. Regulatory Assessment Requirements

This final rule will revoke tolerances established under FFDCA section 408. The Office of Management and Budget (OMB) has exempted this type of action; i.e., a tolerance revocation for which extraordinary circumstances do not exist, from review under Executive Order 12866, entitled Regulatory Planning and Review (58 FR 51735, October 4, 1993). This final rule does not contain any information collections subject to OMB approval under the Paperwork Reduction Act (PRA), 44 U.S.C. 3501 et seq., or impose any enforceable duty or contain any unfunded mandate as described under Title II of the Unfunded Mandates Reform Act of 1995 (UMRA) (Public Law 104-4). Nor does it require any special considerations under Executive Order 12898, entitled Federal Actions to Address Environmental Justice in Minority Populations and Low-Income Populations (59 FR 7629, February 16, 1994); or OMB review or any other Agency action under Executive Order 13045, entitled Protection of Children from Environmental Health Risks and Safety Risks (62 FR 19885, April 23, 1997). This action does not involve any technical standards that would require Agency consideration of voluntary consensus standards pursuant to section 12(d) of the National Technology Transfer and Advancement Act of 1995 (NTTAA), Public Law 104-113, section 12(d) (15 U.S.C. 272 note). Pursuant to the Regulatory Flexibility Act (RFA) (5 U.S.C. 601 et seq.), the Agency previously assessed whether revocations of tolerances might significantly impact a substantial number of small entities and concluded that, as a general matter, these actions do not impose a significant economic impact on a substantial number of small entities. This analysis was published on December 17, 1997 (62 FR 66020), and was provided to the Chief Counsel for Advocacy of the Small Business Administration. Taking into account this analysis, and available information concerning the pesticides listed in this rule, I certify that this action will not have a significant economic impact on a substantial number of small entities. Specifically, as per the 1997 notice, EPA has reviewed its available data on imports and foreign pesticide usage and concludes that there is a reasonable international supply of food not treated with canceled pesticides. Furthermore, the Agency knows of no extraordinary circumstances that exist as to the present revocations that would change EPA's previous analysis.

In addition, the Agency has determined that this action will not have a substantial direct effect on States, on the relationship between the national government and the States, or on the distribution of power and responsibilities among the various levels of government, as specified in Executive Order 13132, entitled Federalism (64 FR 43255, August 10, 1999). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” This final rule directly regulates growers, food processors, food handlers and food retailers, not States. This action does not alter the relationships or distribution of power and responsibilities established by Congress in the preemption provisions of FFDCA section 408(n)(4). For these same reasons, the Agency has determined that this rule does not have any “tribal implications” as described in Executive Order 13175, entitled Consultation and Coordination with Indian Tribal Governments (65 FR 67249, November 6, 2000). Executive Order 13175 requires EPA to develop an accountable process to ensure “meaningful and timely input by tribal officials in the development of regulatory policies that have tribal implications.” “Policies that have tribal implications” is defined in the Executive Order to include regulations that have “substantial direct effects on one or more Indian tribes, on the relationship between the Federal government and the Indian tribes, or on the distribution of power and responsibilities between the Federal government and Indian tribes.” This rule will not have substantial direct effects on tribal governments, on the relationship between the Federal government and Indian tribes, or on the distribution of power and responsibilities between the Federal government and Indian tribes, as specified in Executive Order 13175. Thus, Executive Order 13175 does not apply to this rule.

VI. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of this final rule in the Federal Register. This final rule is not a “major rule” as defined by 5 U.S.C. 804(2).

List of Subjects in 40 CFR Part 180

Environmental protection, Administrative practice and procedure, Agricultural commodities, Pesticides and pests, Reporting and recordkeeping requirements.

Dated: July 11, 2001.
Marcia E. Mulkey,
Director, Office of Pesticide Programs.

Therefore, 40 CFR part 180 is amended as follows:

PART 180—[AMENDED]

1. The authority citation for part 180 continues to read as follows:

Authority: 21 U.S.C. 321(q), 346(a) and 371.

§180.121 [Amended]

2. Section 180.121 is amended by removing from the table in paragraph (a)(1) the entries for boysenberries and youngberries.

§180.153 [Amended]

3. Section 180.153 is amended by removing from the table in paragraph (a)(1) the entries for beans, forage; beans, hay; beans, guar, forage; birdsfoot trefoil; birdsfoot trefoil, hay; boysenberries; dewberries; grass (NMT 40 ppm shall remain 24 hours after appli); grass, hay; peanuts; peanuts, forage; peanuts, hay; pecans; pineapples, forage; soybeans; soybeans, forage; and sugarcane.

§180.169 [Amended]

4. Section 180.169 is amended by removing from the table in paragraph (a)(1) the entry for maple sap, and by removing from the table under paragraph (c) the entry for avocados.

§180.183 [Amended]

5. Section 180.183 is amended by removing from the table in paragraph (a)(1) the entry for pineapples, foliage.

§180.262 [Amended]

6. Section 180.262 is amended by removing from the table in paragraph (a) the entries for beans, lima, forage; beans, snap, forage; pineapples, fodder; pineapples, forage; sugarcane, fodder; and sugarcane, forage; and by removing the “(N)” designation from any entry in the table under paragraph (a).

[FR Doc. 01-18651 Filed 7-25-01; 8:45 am]

BILLING CODE 6560-50-S